DEPARTMENT OF STATE

[Public Notice: 10026]

Issuance of Presidential Permit to the State of Texas Authorizing It To Construct, Operate, and Maintain the Presidio-Ojinaga International Bridge at the International Boundary Between the United States and Mexico, Including a New Two-Lane Bridge Span

SUMMARY: The Department of State issued a Presidential permit to the State of Texas on May 30, 2017, authorizing it to construct, operate, and maintain the Presidio-Ojinaga International Bridge at the international boundary between the United States and Mexico, including a new two-lane bridge span. In making this determination, the Department provided public notice of the proposed permit (81 FR 66320, September 27, 2016), offered the opportunity for comment, and consulted with other federal agencies, as required by Executive Order 11423, as amended.

FOR FURTHER INFORMATION CONTACT: Contact the Office of Mexican Affairs' Border Affairs Unit via email at WHABorderAffairs@state.gov, by phone at 202-647-9894, or by mail at Office of Mexican Affairs—Room 3924, Department of State, 2201 C St. NW., Washington, DC 20520. Information about Presidential permits is available on the Internet at http://www.state.gov/p/wha/rt/permit/.

SUPPLEMENTARY INFORMATION: The following is the text of the issued permit:

Presidential Permit

Authorizing the State of Texas To Construct, Operate, and Maintain the Presidio-Ojinaga International Bridge at the International Boundary Between the United States and Mexico

By virtue of the authority vested in me as the Acting Assistant Secretary of State for the Bureau of Oceans and International Environmental and Scientific Affairs, including those authorities under Executive Order 11423, 33 FR 11741 (1968); as amended by Executive Order 12847 of May 17, 1993, 58 FR 29511 (1993), Executive Order 13284 of January 23, 2003, 68 FR 4075 (2003), and Executive Order 13337 of April 30, 2004, 69 FR 25299 (2004); the International Bridge Act of 1972 (86 Stat. 731; 33 U.S.C. 535 et seq.); and Department of State Delegation of Authority 118-2 of January 26, 2006 and Delegation 415 of January 18, 2017; having considered the environmental effects of the proposed action consistent with the National Environmental Policy Act of 1969, as amended (83 Stat. 852, 42 U.S.C. 4321 et seq.), and other statutes relating to environmental concerns; having considered the proposed action consistent with the National Historic Preservation Act of 1966, as amended (80 Stat. 917, 16 U.S.C. 470f et seq.); taking into account an amended permit issued May 4, 1982 and an earlier permit dated July 2, 1976, and having requested and received the views of federal departments and other interested persons; I hereby grant permission, subject to the conditions herein set forth, to the State of Texas (hereinafter referred to as “permittee”), to construct, operate, and maintain the Presidio-Ojinaga International Bridge (hereinafter referred to as the “bridge”), including a new two-lane second bridge structure (hereinafter referred to as the “new two-lane bridge”), and border crossing.

The term “facilities” as used in this permit means the bridge, its approaches and any land, structures, or installations appurtenant thereto, including the new two-lane bridge for southbound traffic into Mexico as described in the permittee's September 2016 application for a Presidential permit (the “Application”).

The term “U.S. facilities” as used in this permit means those parts of the facilities in the United States, as described in the Application.

This permit is subject to the following conditions:

Article 1. (1) The U.S. facilities herein described, and all aspects of their operation, shall be subject to all the conditions, provisions, and requirements of this permit, and any amendment thereof. This permit may be terminated or amended at the discretion of the Secretary of State or the Secretary's delegate or upon proper application therefore. The permittee shall make no substantial change in the U.S. facilities, the location of the U.S. facilities, or in the operation authorized by this permit until such changes have been approved by the Secretary of State or the Secretary's delegate.

(2) The construction, operation, and maintenance of the U.S. facilities shall be in all material respects as described in the Application and, to the extent not inconsistent with that Application, the permittee's application for the permit issued May 4, 1982.

Article 2. The standards for, and the manner of, the construction, operation, and maintenance of the U.S. facilities shall be subject to inspection and approval by the representatives of appropriate federal, state, and local agencies. The permittee shall allow duly authorized officers and employees of such agencies free and unrestricted access to said facilities in the performance of their official duties.

Article 3. The permittee shall comply with all applicable federal, state, local, and tribal laws and regulations regarding the construction, operation, and maintenance of the U.S. facilities and with all applicable industrial codes. The permittee shall obtain all requisite permits from the relevant Mexican authorities as well as from the relevant state and local governmental entities and relevant federal agencies.

Article 4. Upon the termination, revocation, or surrender of this permit, and unless otherwise agreed by the Secretary of State or the Secretary's delegate, the U.S. facilities in the immediate vicinity of the international boundary shall be removed by and at the expense of the permittee within such time as the Secretary of State or the Secretary's delegate may specify, and upon failure of the permittee to remove, or to take such other appropriate action with respect to, this portion of the U.S. facilities as ordered, the Secretary of State or the Secretary's delegate may direct that possession of such facilities be taken and that they be removed or other action taken at the expense of the permittee; and the permittee shall have no claim for damages by reason of such possession, removal, or other action.

Article 5. If, in the future, it should appear to the U.S. Coast Guard or the Secretary of Homeland Security (or the Secretary's delegate) that any facilities or operations permitted hereunder cause unreasonable obstructions to the free navigation of any of the navigable waters of the United States, the permittee may be required, upon notice from the U.S. Coast Guard or the Secretary of Homeland Security (or the Secretary's delegate), to remove or alter such facilities as are owned by it so as to render navigation through such waters free and unobstructed.

Article 6. All construction, operation, and maintenance of the U.S. facilities under this permit shall be subject to the limitations, terms, and conditions issued by any competent agency of the U.S. government, including but not limited to the U.S. Coast Guard, the Department of Homeland Security, the General Services Administration, and the U.S. Section of the International Boundary and Water Commission (USIBWC). This permit shall continue in force and effect only so long as the permittee shall continue the operations hereby authorized in accordance with such limitations, terms, and conditions.

Article 7. When, in the opinion of the President of the United States, the national security of the United States demands it, due notice being given by the Secretary of State or the Secretary's delegate, the United States shall have the right to enter upon and take possession of any of the U.S. facilities or parts thereof; to retain possession, management, or control thereof for such length of time as may appear to the President to be necessary; and thereafter to restore possession and control to the permittee. In the event that the United States shall exercise such right, it shall pay to the permittee just and fair compensation for the use of such U.S. facilities upon the basis of a reasonable profit in normal conditions and the cost of restoring said facilities to as good condition as existed at the time of entering and taking over the same, less the reasonable value of any improvements that may have been made by the United States.

Article 8. Any transfer of ownership or control of the U.S. facilities or any part thereof shall be immediately notified in writing to the U.S. Department of State, including submission of information identifying the transferee. In the event of such transfer of ownership or control, this permit shall remain in force and the U.S. facilities shall be subject to all the conditions, permissions, and requirements of this permit and any amendments thereto unless subsequently terminated or amended by the Secretary of State or the Secretary's delegate.

Article 9. (1) The permittee is responsible for acquiring any right-of-way grants or easements, permits, and other authorizations as may become necessary and appropriate.

(2) The permittee shall hold harmless and indemnify the United States from any claimed or adjudged liability arising out of the construction, operation, or maintenance of the facilities.

(3) The permittee shall maintain the U.S. facilities and every part thereof in a condition of good repair for their safe operation, and in compliance with prevailing environmental standards and regulations. The bridge shall be operated as a toll-free facility.

(4) The permittee shall obtain a license from the USIBWC before commencing construction.

Article 10. The County of Presidio, Texas shall provide the General Services Administration an adequate Federal inspection facility at the U.S. terminal of the bridge.

Article 11. The permittee shall take all necessary measures to prevent or mitigate adverse impacts on or disruption of the human environment in connection with the operation and maintenance of the U.S. facilities, including those mitigation measures set forth in the Final Environmental Assessment dated July 2016 and in the U.S. Department of Transportation Federal Highway Administration Finding of No Significant Impact dated August 2, 2016 and any other measures deemed prudent by the permittee.

Article 12. The permittee shall not begin construction until it has been informed that the Government of the United States and the Government of Mexico have exchanged diplomatic notes confirming that both governments authorized the commencement of construction of the new two-lane bridge.

Article 13. The permittee shall provide information upon request to the Department of State with regard to the U.S. facilities. Such requests could include, for example, information concerning current conditions or anticipated changes in ownership or control, construction, connection, operation, or maintenance of the U.S. facilities.

Article 14. The permittee shall provide written notice to the Department of State at such time as the construction authorized by this permit is begun, at such time as construction is completed, interrupted, or discontinued, and at other times as may be designated by the Department of State.

Article 15. The permittee shall file with the appropriate agencies of the U.S. government such statements or reports under oath with respect to the U.S. facilities, and/or the permittee's activities and operations in connection therewith, as are now, or may hereafter be, required under any laws or regulations of the U.S. government or its agencies.

Article 16. Permission to construct the new two-lane bridge shall expire ten years from the date of issuance of this permit in the event that the permittee has not commenced construction of the new two-lane bridge as described in the September 2016 application by that deadline. The remaining provisions of this permit shall remain in full force and effect.

In witness whereof, I, Judith G. Garber, Acting Assistant Secretary of State for the Bureau of Oceans and International Environmental and Scientific Affairs, have hereunto set my hand this _30th_day of_May_, 2017 in the City of Washington, District of Columbia.

Judith G. Garber

Acting Assistant Secretary Bureau of Ocean and International Environmental and Scientific Affairs

End of permit text.

Colleen A. Hoey,
Director, Office of Mexican Affairs.

[FR Doc. 2017-12371 Filed 6-14-17; 8:45 am]

BILLING CODE 4710-29-P